DEPARTMENT OF DEFENSE

Office of the Secretary

TRICARE; Implementation of the TRICARE Home Health Agency Prospective Payment System

AGENCY: Office of the Secretary, Department of Defense.

ACTION: Notice of implementation of Home Health Agency Prospective Payment System.

SUMMARY: This notice is to advise interested parties of the phased-in implementation of the Home Health Agency Prospective Payment System (HHA PPS). Public notification of HHA PPS implementation was required under a previous interim final rule (67 FR 40597) published in the Federal Register on June 13, 2002, if TRICARE was unable to effectively and efficiently implement the HHA PPS within the specified statutory effective date of August 12, 2002.

The HHA PPS will be implemented with the start health care delivery date of the following regional groupings of states under each of the TRICARE Next Generation of Contracts (T-Nex); e.g., as of June 1, 2004, home health agency services in the state of Washington will be processed and paid under the HHA PPS as part of the West T-Nex regional contract.

T-Nex region/contractor | States | Start healthcare delivery
North (Health Net Federal Services, Inc.) | Illinois, Indiana, Kentucky, Michigan, Ohio, Wisconsin, West Virginia, Virginia (except the Northern Virginia/National Capital Area), North Carolina, Eastern Iowa, Rock Island, IL, Fort Campbell catchment area of Tennessee | July 1, 2004.
| Connecticut, Delaware, District of Columbia, Maine, Maryland, Massachusetts, New Hampshire, New Jersey, New York, Pennsylvania, Rhode Island, Vermont, Northern Virginia, West Virginia (portion) | September 1, 2004.
South (Humana Military Healthcare Services) | Oklahoma, Arkansas and major portions of Texas and Louisiana | November 1, 2004.
| Alabama, Florida, Georgia, Mississippi, Eastern Louisiana, South Carolina, Tennessee, small area of Arkansas, New Orleans area | August 1, 2004.
West (TriWest Healthcare Alliance Corp.) | Washington, Oregon, Northern Idaho | June 1, 2004.
| California, Hawaii, Alaska | July 1, 2004.
| Arizona, Colorado, Idaho, Iowa, Kansas, Minnesota, Missouri, Montana, Nebraska, Nevada, New Mexico, North Dakota, South Dakota, western portion of Texas, Wyoming | October 1, 2004.

FOR FURTHER INFORMATION CONTACT: David Bennett, Medical Benefits and Reimbursement Systems, TRICARE Management Activity, telephone (303) 676-3494.

Dated: March 23, 2004.
L.M. Bynum,
Alternate OSD Federal Register Liaison, Officer, Department of Defense.

[FR Doc. 04-6978 Filed 3-29-04; 8:45 am]

BILLING CODE 5001-06-M